DEPARTMENT OF LABOR

Employment and Training Administration

Grants for Implementing Individual Training Account (ITA) Approaches Through the ITA Experiment

AGENCY: Employment and Training Administration (ETA), Labor.

ACTION: Notice of availability of funds and solicitation for grant applications (SGA). This Notice Contains All of the Necessary Information and Forms Needed to Apply for Grant Funding.

SUMMARY: The U.S. Department of Labor (DOL), Employment and Training Administration (ETA) announces a competitive solicitation for grant applications (SGA) and the availability of approximately $4.5 million for approximately six grant awards. Through this notice, DOL seeks to identify local Workforce Investment Areas (local areas) committed to implementing three distinctly different approaches for delivering Individual Training Accounts (ITAs) to their customers (participants). Applicants awarded a grant under this SGA will participate in the ITA Experiment, the purpose of which is to provide better information to State and local administrators as they determine the roles of counselors in the management of participant choices in ITAs; plan the allocation of staff and training resources to best meet their objectives; and strive for the continuous improvement of services under the Workforce Investment Act (WIA).

The WIA legislation provides States and locals with considerable flexibility in using ITAs to manage participants' choices of training providers. State and local administrators are therefore faced with developing their own ITA approaches to best serve their participants. The ITA Experiment will test three ITA approaches from a spectrum of possible ITA approaches that could be adopted by local areas. All eligible participants will receive an ITA offer; that is, there will be no “control group” where participants are denied ITAs. Control groups will not be used because the goal of the ITA Experiment is to see which type of ITA approach, or aspects of those approaches, works best. By rigorously testing three very different ITA approaches, the ITA Experiment will help to establish which approach(es) work best for participants, for counselors, for local areas, and for the workforce development system as a whole. Administrators will be able to use this information to determine how to design an ITA system best suited for their State or local community.

Applicants awarded a grant under this SGA will receive the following benefits: (1) Federal funding to support administrative costs and other activities related to implementation and operation of ITAs; (2) support from DOL and research contractor staff experienced with and knowledgeable about ITAs and related employment and training activities; (3) technical assistance in implementing ITAs that is based on the most current research findings from the employment and training community nationwide; (4) on-going support from the research contractors in conducting all experimental activities, where the objectives of the research contractors will be to involve local staff in planning, minimize the burden on local staff, and provide responsive technical assistance and clear training materials; and (5) practical information on what ITA approach works best in their community. It is anticipated that grantees selected to implement the ITA approaches under this SGA will be exempt from performance measures for the length of the intake period.

DATES: Applications will be accepted commencing on the date of publication. The closing date for receipt of applications under this announcement is Thursday, November 30, 2000, at 4:00 p.m. Eastern Standard Time (EST) at the address below. Telefacsimile (FAX), Telegraphed, or Electronic Applications Will Not Be Honored.

ADDRESSES: Applications shall be mailed to the U. S. Department of Labor, Employment and Training Administration, Division of Federal Assistance, Attention: Ms. Yvonne Harrell, SGA/DFA 00-111, 200 Constitution Avenue, NW., Room S-4203, Washington, DC 20210.

FOR FURTHER INFORMATION CONTACT: Questions should be faxed to Ms. Yvonne Harrell, Grants Management Specialist, Division of Federal Assistance, Fax (202) 219-8739. This is not a toll-free number. All inquires should include the SGA number (DFA 00-111), and a contact name, fax and telephone numbers. This solicitation is also being published on the Internet at ETA's home page at www.doleta.gov. Award notifications will also be published on the ETA home page.

SUPPLEMENTARY INFORMATION:

I. Authority

The Individual Training Account (ITA) Experiment is being conducted under Section 171(c) of the Workforce Investment Act, which provides DOL/ETA with the authority to conduct multi-service projects, research projects, and multi-state projects. For example, multi-service projects test an array of approaches to the provision of employment and training services to a variety of targeted population; design, develop, and test various training approaches in order to determine effective practices; and assist in the development and replication of effective service delivery strategies for targeted populations for the national employment system as a whole. Research projects contribute to the solution of employment and training problems. Multi-state projects effectively disseminate best practices and models for implementing employment and training services; and obtain information relating to the provision of services under different economic conditions or to various demographic groups in order to provide guidance at the national and State levels about how to best administer specific employment and training services.

II. Part I—Background Summary

ETA is soliciting proposals on a competitive basis for the implementation of three different ITA approaches for managing a participant's choice in the administration of ITAs under the Workforce Investment Act (WIA). The ITA approaches will be implemented through the ITA Experiment to provide State and local administrators with information on the effects of different ITA approaches to assist them in determining which approach is most appropriate to adopt.

This announcement consists of six parts:

(1) Part I—Background Summary

(2) Part II—Eligible Applicants and Application Process.

(3) Part III—Statement of Work

(4) Part IV—Submission of Application

(5) Part V—Rating Criteria and Selection Process

(6) Part VI—Monitoring, Reporting & Evaluation Requirements

A. Additional Background Information

On August 7, 1998, President Clinton signed the Workforce Investment Act (WIA) of 1998, a comprehensive reform legislation that superseded the Job Training Partnership Act (JTPA) on July 1, 2000. The WIA encourages States and localities to envision and implement a system of delivering training services to participants that goes beyond the status quo, as well as strive to continuously improve that system over time. A key element of the WIA is the requirement that local Workforce Investment Areas (WIAs) establish Individual Training Accounts (ITAs) to provide training services to participants. ITAs are intended to transform the delivery of services to adults and dislocated workers by enabling participants to choose their training providers. WIA also gives States and local areas a great deal of flexibility in deciding how much guidance and direction they will provide to participants in choosing the appropriate training.

Given the flexibility provided by WIA, State and local officials must decide how to administer ITAs for their participants who need training services. The ITA Experiment is designed to form these decisions by testing different approaches to managing participant choices in the administration of ITAs. The findings from this experiment will reveal how the different ITA approaches affect training choices, employment and earnings outcomes, returns on training investments, and participant satisfaction. State and local administrators may use this information to determine which ITA approach, or aspects of these approaches, is most appropriate for their participants.

B. Benefits to Local Areas Selected Under This SGA

Participation in the ITA Experiment will offer the following benefits for local areas:

• Federal funding to support administrative costs and other activities related to implementation and operation of ITAs;

• Support from the Department of Labor and research contractor staff experienced with and knowledgeable about ITAs and related employment and training activities;

• Technical assistance in implementing ITAs based on the most current research findings from the employment and training community nationwide;

• Ongoing support from the research contractors in conducting all experimental activities, where the objectives of the contractors will be to involve local staff in planning, minimize the burden on local staff, and provide responsive technical assistance and clear training materials; and

• Information on which of the ITA approaches work best in their community.

Part II: Eligible Applicants and Application Process

A. Eligible Applicants

Applicants eligible for this grant must be either (1) a single local Workforce Investment Board (Local Board) applying with strong evidence of support from the State, or (2) a consortium of two contiguous Local Boards applying with strong support from their respective State(s). Applicants must provide clear evidence of support from the State in their application. Applications will not be considered without this evidence.

One of the key objectives of the ITA Experiment is to detect the impacts of substantially different ITA approaches to determine which approach works best, and for whom. In order to obtain accurate and reliable estimates of outcomes for the different ITA approaches, the research contractor for this effort has determined that a minimum sample size requirement of at least 550 training recipients in one program year is needed for each selected applicant. Thus, applicants applying as an individual Local Board must provide evidence of a minimum flow of 550 training recipients in one program year. Applicants applying as a consortium must provide evidence of a combined total of at least 550 training recipients in one program year. DOL encourages collaboration among Local Boards with a smaller flow of training recipients to apply as a consortium if the combined flow of training recipients is anticipated to be at least 550. Applicants applying together as a consortium must be contiguous, i.e., Local Boards must be from the same adjoining region. Applicants applying as a consortium who are selected for the project will receive a maximum amount of $750,000 for the consortium. This amount will be distributed proportionately to the number of training recipients each Local Board expects to contribute to the total number of expected training recipients. For example, if a consortium consists of two Local Boards, and the first Local Board anticipates a flow of 250 training recipients, while the second Local Board anticipates a flow of 400, the consortium will have a combined total of 650 training recipients. Since the first Local Board is providing for 250 of the 650 total training recipients (38% of the total number of training recipients), it will receive approximately $285,000 of the $750,000 grant (38% of the total grant award). Since the second Local Board is providing for 400 of the total 650 training recipients (62% of the total number of training recipients), it will therefore receive approximately $465,000 of the $750,000 grant (62% of the total grant award).

Applicants awarded this SGA must serve both adults and dislocated workers eligible for WIA training.

B. Grant Funding and Period of Performance

It is anticipated that $4.5 million will be available to make approximately six grant awards with a maximum award amount of $750,000 each. The period of performance will be approximately 36 months from the date of execution by the Department.

C. Option to Extend

The Department of Labor may exercise its option to extend these grants for an additional period depending upon the availability of funds, the awardee's performance, and the needs of the ITA Experiment.

D. Allowable Activities

In general, there are specific activities that will be funded through the grant funds awarded under this contract. These include activities related to implementation, random assignment of the participants to one of the three ITA approaches, and data collection for the ITA Experiment. The following are some examples of how these funds might be used to support the ITA Experiment:

a. Administrative expenses (including staff training) necessary for understanding the delivery of the ITA approaches, random assignment, and data collection;

b. Administrative expenses for the delivery of orientation sessions on ITAs, counseling, and other services required under the ITA Experiment;

c. Administrative expenses related to the Eligible Training Provider (ETP) list process;

d. Expenses related to the operation and maintenance of the Service Tracking System (STS) for the ITA Experiment;

e. Travel and other expenses related to participation in networking and dissemination activities offered in conjunction with the ITA Experiment;

f. Travel and related expenses for the ITA Experiment; and

g. Other related and reasonable costs associated with implementation of the ITA Experiment.

One of the objectives for the ITA Experiment is to provide information on ITA approaches using resources consistent with the funding level normally available to Local Boards for training participants under WIA. As a result, grant funds are not intended to supplement direct ITA expenditures for their participants. Limited exceptions may be made only with the recommendation and approval of DOL. For example, DOL may approve up to 10% of the grant for direct training expenditures to participants.

E. Collaboration

Applicants are expected to collaborate with State, One-Stop administrative staff, counselors, training vendors, participants, management information systems staff, financial staff, and other related partners. Applicants are also expected to collaborate with DOL and the research contractors evaluating the ITA Experiment.

Part III. Statement of Work

A. Purpose

A key element of the Workforce Investment Act (WIA) is the requirement that local Workforce Investment Areas (local areas) establish Individual Training Accounts (ITAs) to provide training services to participants. ITAs are intended to transform the delivery of services to adults and dislocated workers by ensuring that participants can choose their training providers. WIA also gives States and local areas a great deal of flexibility in deciding how much guidance and direction they will provide to participants in choosing appropriate training.

Given the flexibility provided by WIA, State and local officials must decide how to administer ITAs for their participants who need training services. The ITA Experiment is designed to provide assistance in these decisions by testing different approaches to managing participant choice in the administration of ITAs. The findings from this experiment will reveal how the different ITA approaches affect different training choices, employment and earnings outcomes, returns on training investments, and participant satisfaction. State and local administrators can use this information to determine which ITA approach, or combination of approaches, is most appropriate for their participants.

The ITA Experiment will test three alternative approaches to managing participant choice with ITAs. These approaches were designed based on extensive research conducted by the Department of Labor and the team of research contractors evaluating the experiment. This research included discussions with various stakeholders and visits to several local areas that are already operating some type of training voucher program. Information gathered during this research was used to design three ITA approaches that are consistent with WIA; have the potential for generating different training choices and outcomes; and are both feasible and likely to be of interest to local areas implementing WIA.

The ITA approaches to be tested in the experiment vary on three characteristics related to the management of participant choice: (1) The method used to determine each participant's ITA spending; (2) the ability of local counselors to guide or limit the choice of training providers made by participants; and (3) the type of counseling provided and whether it is mandatory or voluntary. We use these variations as the basis for defining the three ITA approaches to be tested from a spectrum of possible ITA systems, which range from a highly structured approach to a true voucher approach. The approach in the middle of this range is intended to broadly represent what most local areas are doing on their own, while the other two approaches are designed to be more or less structured than what most local areas are doing on their own.

The ITA approaches will be tested in an experimental setting; that is, new participants determined to be eligible for training will be randomly assigned by lottery to one of the ITA approaches. The lottery will be conducted by the research contractors evaluating the experiment. The participant will then be directed to participate in the activities of the ITA approach to which he or she is randomly assigned. All eligible participants will receive an ITA offer; that is, there will be no “control group” where participants are denied ITAs. Control groups will not be used because the goal of the ITA Experiment is to see which type of ITA approach works best overall and for different participants. Random assignment is crucial to the success of the experiment because it will ensure that participants assigned to each ITA approach are similar, on average. Hence, any differences between approaches in terms of the experiences of participants and their outcomes can be attributed to the ITA approaches themselves.

Enrollment into the experiment will begin on July 1, 2001, and local areas awarded grants under this SGA must commit to an enrollment period of 12 to 18 months. Local areas choosing to participate in the experiment must also commit to operating the three ITA approaches, supporting random assignment, and helping collect data to support the experiment. DOL and the research contractors will guide and assist local areas in carrying out each of these activities.

DOL has funded a separate contract with a research contractor, Mathematica Policy Research, to provide technical assistance and evaluation activities for the ITA Experiment. Based on preliminary grantee site visits, the researchers will adapt the experimental procedures to the conditions at each site. Each site will be provided with the necessary hardware to operate the software being developed for this project, pre-implementation training sessions, an implementation guide, and a variety of related documents to support the implementation and operation of ITAs through the ITA Experiment.

Participation in the ITA Experiment will offer the following benefits for the local areas selected under this SGA:

• Federal funding to support administrative costs and other activities related to implementation and operation of ITAs;

• Support from Department of Labor and research contractor staff experienced with and knowledgeable about ITAs and related employment and training activities;

• Technical assistance in implementing ITAs that is based on the most current research findings from the employment and training community nationwide;

• Ongoing support from the research contractors in conducting all experimental activities, where the objectives of the researchers will be to involve local staff in planning, minimize the burden on local staff, and provide responsive technical assistance and clear training materials; and

• Information on which of these ITA approach(es) works best in their community.

B. Overview of Major Tasks and Schedule of Milestone Activities

A challenge for One-Stop administrators is to allocate limited training resources to achieve the best possible outcomes while preserving participant choice. To provide information to localities on which ITA approach may work best for them and their participants, the ITA Experiment will rigorously assess three distinct ITA approaches that represent different strategies for meeting this challenge. Grantee sites selected to participate in the ITA Experiment must demonstrate a commitment to implementation of the ITA research design for the ITA Experiment, which includes the following major tasks (a description of the activities related to these major tasks are described later in this Statement of Work):

Task 1. Understanding and planning for the delivery of the three ITA approaches that are described in this Statement of Work;

Task 2. Implementation of the ITA Experiment, including the delivery of the three ITA approaches, enrollment, and random assignment of participants to one of the ITA approaches;

Task 3. Data collection of information necessary for the evaluation of the ITA Experiment.

A preliminary time line for the implementation of the ITA Experiment is as follows:

Preliminary Schedule of Milestones Activities for Implementation of ITA Experiment
Milestone activities | Date
First Grantee Meeting | February 2001.
Grantees work with DOL and researchers for planning the operational procedures in each site for implementation of the ITA approaches, random assignment, and data collection | February 2001-June 2001.
Grantees receive necessary hardware from DOL for the management information system, which is the Service Tracking System (STS); DOL provides technical assistance to grantee sites to ensure hardware is compatible with the DOL-developed software for the STS | February 2001.
DOL testing of STS software at Pilot Site\*\ | March 2001.
On-Site Training Session for Pilot Site staff | March 2001.
Pilot Site begins enrollment for ITA Experiment | April 1, 2001.
On-Site Training Sessions for each Grantee | May thru June 2001.
Software and computers for the ITA Experiment are fully operational at all Grantees | May thru July 1, 2001.
Grantees begin enrollment for ITA Experiment | July 1, 2001.
Three rounds of Site Visits to be conducted by the researchers | Dates to be determined.
State staff assists researchers with compiling wage records and other administrative data on all participants in the experiment | To begin following the completion of experimental operations.
* The Pilot Site will be determined at a later date by DOL from among the grantees selected for this project. All grantees selected for funding under this SGA must commit to serving as a pilot site, if selected. The grantee selected as the pilot site will have the opportunity to begin ITA implementation and operation before July 1, 2001, and will receive immediate TA for early implementation and operation of the ITAs. However, please note that the pilot site will not receive additional funding above the funding level stated in this SGA.

C. Overview of Evaluation Components

The ITA Experiment will be evaluated by a team of research contractors, which will be led by Mathematica Policy Research, and will include Social Policy Research Associates and Decision Information Resources. Please note that this evaluation is fully funded through a separate contract with DOL, and will not require any additional funding through this SGA. The evaluation will include two parts. The first part will be an analysis of implementation and operation of the different ITA approaches. This analysis will be based on data collected during three rounds of visits to the grantees participating in the experiment. During these visits the researchers will examine implementation and operation of the three ITA approaches from various perspectives, including those of State and local administrators, participants, and training providers. The second part of the evaluation will be an analysis of participant outcomes and the returns on the investment in the different ITA approaches. This analysis will focus on the differences in participant outcomes, such as training choices and employment and earnings, generated by the three ITA approaches. Data for this analysis will be drawn from State wage record files and other administrative records, the Service Tracking System (STS) developed by DOL specifically for the experiment, and a follow-up survey of participants.

D. Description of Major Tasks

Task 1: Understanding and Planning for the Delivery of the Three ITA Approaches

The basic features of the three ITA approaches to be tested are summarized in Table 1. These features include the overall philosophy of the approach, the structure of the ITA, the counseling activities required for participants, and the role counselors play in helping participants formulate their training decisions.

The first activity in each ITA approach is an orientation session, in which participants are informed about all available services and about the activities that are required for their particular approach. Beyond this point, the activities in each approach diverge. The researchers will provide documents and other tools to support the orientation sessions as well as the various counseling activities in each approach. Counseling activities selected for the experiment will represent some of the best practices that have been found in support of informed participant choice of training.

1. Approach 1: Structured Participant Choice. Approach 1 is the most structured of the three approaches to be tested. In this approach, counselors play a central role by directing participants and scarce WIA resources to training programs expected to yield a high return—that is, programs through which earnings on the new job will be high relative to the investment in training. Participants assigned to Approach 1 will be guided through a calculation of the benefits and costs of appropriate training options and toward options that offer the greatest expected returns. Moreover, counselors will reject training selections not consistent with this approach.

Once appropriate training has been chosen, participants will receive an ITA to cover the costs of training. Therefore, the amount of the ITA is considered to be “customized” to the individual based on the training program approved by the counselor. More specifically, the value of the ITA will equal the cost of the approved training program minus any support available from other sources, subject to a local ceiling or “cap” on ITA expenditures. With guidance from the research evaluation team, localities will set this cap high enough to cover even high-cost programs on the State's Eligible Training Provider (ETP) list. Only counselors will know the cap: participants will not be provided with this information but will be informed about the amount of their own ITA. Since the ITA is set according to the cost of training under Approach 1, most participants assigned to this approach will not spend up to the ITA cap.

To help participants identify appropriate training, local staff will take participants through a sequence of training-related counseling activities. These activities have been designed to help local staff identify high-return training strategies and determine the appropriate ITA amount. Staff will use a benefit-cost guidebook and worksheet, which will be provided by the researchers, to guide participants to high-return training. Participants must complete the required counseling activities to receive approval for their training selections. Approval will be based on three conditions: (1) The selected program is on the State-approved list of eligible training providers, (2) the participant is expected to be able to complete the training, and (3) the selected program is expected to enable the participant to become employed in an occupation with high earnings relative to the resources being invested. While counselors will not be able to require a particular training program for a participant, they will have the authority to reject a participant's training selection if it does not meet any one of these three conditions. In this way, counselors will have a fairly high degree of control in directing participants to training programs that promise the highest returns on investment.

2. Approach 2: Guided Choice. Approach 2 is designed to broadly represent the approach that localities are most likely to adopt as they make the transition to the new WIA training environment. Local counselors will play an important but less directive role in Approach 2 than in Approach 1. Their objective is to ensure that participants make informed training decisions, taking into account the advantages and disadvantages of alternative providers and the tradeoffs implicit in devoting more or fewer ITA resources to direct training costs. For this objective to be achieved, Approach 2 participants, like Approach 1 participants, will be required to participate in structured counseling activities. In contrast to Approach 1, however, Approach 2 will not require return to training exercises through which counselors and participants explicitly weigh the benefits of different training selections against the costs, although this service will still be available if desired. The researchers will provide tools to support counseling activities under Approach 2.

Counselors will recommend appropriate, modest-cost programs to ensure that participants reserve ITA funds for anticipated training-related needs (such as transportation to the training site) and to allow the locality to reserve WIA funds in order to serve more training participants. However, participants will continue to have final control over their selections. Once participants have selected their training, local staff must approve the selected training as long as (1) the participant has satisfied the approach's counseling requirements and (2) the selected program is covered in the State's list of eligible providers and appears feasible, given the amount of the ITA and other available resources.

Under Approach 2, the ITA has the same “fixed” value for all participants. Because participants may choose any feasible, State-approved program, counselors cannot customize the ITA amount to each individual as in Approach 1. The fixed ITA amount will be significantly lower than the cap under Approach 1. Participants will be made aware of this amount before choosing a training provider. Since counselors will recommend appropriate and relatively low-cost training, some participants will not spend the full amount of their ITA, and ITA expenditures will therefore differ for Approach 2 participants.

Last, participants will be given the flexibility to use ITA funds to pay for direct training costs (that is, tuition and fees) and for training-related expenses (for example, books, equipment, or certification exams), subject to counselor approval.

3. Approach 3: Maximum Participant Choice. Approach 3 is the most flexible of the ITA approaches to be tested in the experiment. It is intended to represent a type of voucher program where participants are free to spend resources on any State-approved training program and on related expenses approved by their local counselors. Approach 3 participants will be informed of the fixed ITA amount available to them before selecting a training program; will be allowed to use their ITA to pay for approved training and for training-related expenses; and will have final authority over their training choices.

Approach 3 participants may pursue the training of their choice without any further interaction with local staff once they have participated in an orientation. Participants under this approach have maximum choice because counselors can reject training choices only if the provider is not included in the State's list of eligible training providers. Unlike Approaches 1 and 2, participation in counseling services will not be mandatory for Approach 3 participants, and failure to participate will not restrict their access to ITA funds. Approach 3 participants may elect to receive counseling or other assistance from local staff to help them select the training of their choice.

Task 2: Implementation of the ITA Experiment, Including the Delivery of the ITA Approaches, and Enrollment and Random Assignment of Participants

Before the ITA Experiment is implemented, staff from Mathematica will visit the grantees to evaluate how the three ITA approaches will be adapted to the local conditions. Following these visits, Mathematica will develop operational manuals to guide the implementation of the experiment in each site. These manuals, to be developed in collaboration with grantee staff, will describe the various ITA approaches and procedures in enough detail to ensure that local operations will be consistent with the design of the experiment. Each site will receive an operational manual customized to its local area operation.

The experiment will be pilot-tested by one grantee site. Prior to implementing the experiment in the remaining grantee sites, a debriefing will be conducted on the pilot experience. To prepare grantee staff for implementation, the researchers will develop training materials and train local staff approximately one month before enrollment begins. Once operations have begun, the researchers will provide support and technical assistance to local staff throughout the experiment. Information from this pilot test will be used to further refine ITA procedures.

The project enrollment period will last between 12 to 18 months. All grantees must commit to conducting enrollment of participants for up to 18 months. During this time, the researchers will randomly assign all participants to one of the three ITA approaches after the point at which it is determined that training is part of the participant's individual employment plan. Thus, the ITA experiment will not affect any of the core or intensive services provided to participants before determining training eligibility. It is important to remember that all three ITA approaches will be implemented by all of the selected grantees. Before random assignment, local staff will inform participants about the experiment and have them sign an agreement consenting to participate in the study and authorizing the use of their administrative records for research purposes. In describing the experiment, local staff will explain to participants that they will be randomly assigned to one of three ITA approaches. All eligible participants will receive an ITA offer; that is, there will be no “control group” where participants are denied ITAs. Participants will also be asked to complete a Baseline Information Form (BIF) at that time.

Once the participant has completed a participation agreement and a BIF, the site will enter the information from the BIF into the Service Tracking System (STS), a computer system created by DOL especially for the experiment. Once the BIF is entered, the STS will conduct random assignment, and the site will be notified by e-mail about the ITA approach to which a participant has been assigned.

Task 3: Data Collection of Information Necessary for the Evaluation of the ITA Experiment.

As mentioned in the introduction, the researchers will use several data sources in the evaluation of the experiment. In addition, the local areas (and respective States) participating in the experiment will play a fairly large role in data collection. During enrollment, local staff will oversee the completion of the participation agreement and the BIF. As participants flow through the program, local staff will enter data into the STS to track enrollment into the experiment and the participation of ITA participants in training-related services and training. The STS will generate reports that will help counselors monitor participants' activities, training expenditures, and ITA accounts. Please note that local staff will not be required to enter data on core and intensive services into the STS. Each grantee site will receive computer hardware and software for the STS. Technical assistance for installing and operating the STS, will also be provided and funded by DOL under a separate contract.

In three rounds of site visits to support the analysis of implementation and operation of the ITA approaches. Following the completion of experimental operations, State staff will be expected to help the researchers compile wage records and other administrative data on all participants in the experiment.

Local areas need to provide a signed letter from their State assuring that State wage records and other administrative data required for the evaluation of the experiment will be made available.

Table 1.—Summary of the ITA Approaches
Approach 1 Structured participant choice | Approach 2 Guided participant choice | Approach 3 Maximum participant choice
Approach Philosophy
Maximizes return on local area training investments | Balances participant choice and counselor guidance | Maximizes participant choice and flexibility over training decisions.
TA Structure
ITA amounts are “customized” to the individual subject to an upper limit or “cap.” | Participants receive ITA amount that is much lower than the Approach 1 cap | Same as Approach 2.
Only counselors are aware of the cap on ITA expenditures | Both participants and counselors are aware of the fixed ITA amount before choosing a training provider | Same as Approach 2.
ITAs cover only direct training costs; other training-related assistance provided outside the ITA based on need | ITAs cover direct training costs and other training-related expenses; no other financial assistance is provided. | Same as Approach 2.
Required Counseling Activities
After ITA orientation, participant must participate in weekly counseling sessions covering: | After ITA orientation, particip[ant must participate in weekly counseling session covering: | After ITA orientation, the participant is not required to enroll in any additional activities, but activities are available if requested.
(a) High-return training options
(b) Aptitude for high-return occupations
(c) Training options in participant's selected occupation | (c) Training options in participant's selected occupation
(d) Returns-to-training in participant's selected occupation
(e) Feasibility of participant's optimal training selection(s) | (e) Feasibility of participant's proposed training selection(s)
Counselor's Role
Directs participant to training selections on the State Eligible Training Provider list that maximize return on investment | Guides participant to appropriate training strategies | Available as a resource to participate as s/he formulates a program selection.
Approves only a recommended program after participant completes the required counseling activities | Approves participant's choice if: (a) Participant has completed the required counseling activities (b) The selection is covered in State list of eligible training providers (c) The selection appears feasible with ITA and other available resources | Approves participant's choice if: (b) The selection is covered in State list of eligible training providers.

Part IV. Submission of Application

A. Selection Format Requirements for Grant Application

General Requirements: Applicants must submit four (4) copies of their proposal, with original signatures. The application narrative must be double-spaced, and on single-sided, numbered pages with the exception of format requirements for the Executive Summary. The Executive Summary must be limited to no more than two single-spaced, single-sided pages. A font size of at least twelve (12) pitch is required throughout.

There are three required sections of the application. Requirements for each section are provided in this application package. Applications that fail to meet the requirements will not be considered.

Section I—Executive Summary—Project Synopsis;

Section II—Project Financial Plan;

Section III—Project Narrative—Technical Proposal (including Appendices, Not To Exceed 35 Pages).

Section I. Executive Summary—Project Synopsis (format requirements limited to no more than two single-spaced, single-sided pages)—Each application shall provide a project synopsis which identifies the following:

a. The applicant;

b. The type of organization the applicant represents;

c. The identification of consortium partners and the type of organization they represent;

d. The project service area;

e. Whether the service area is an entire local workforce investment area, more than one local area, and/or all local areas in a State;

f. The specific areas of focus in the announcement which are addressed by the project;

g. The amount of funds requested;

h. The planned period of performance;

i. The comprehensive strategy proposed for providing seamless service delivery;

j. The level of commitment the applicant and consortium members have to serving participants,

Section II. Project Financial Plan—Section II of the application must include the following two required elements: (1) Standard Form (SF) 424, Application for Federal Assistance, and (2) Budget Information Form and budget narrative. All copies of the SF 424 MUST have original signatures of the legal entity applying for grant funding. Applicants shall indicate on the SF 424, the organization's IRS Status, if applicable. According to the Lobbying Disclosure Act of 1995, Section 18, an organization described in Section 501 (c) 4 of the Internal Revenue Code of 1986 which engages in lobbying activities shall not be eligible for the receipt of federal funds constituting an award, grant, or loan. The Federal Domestic Assistance Catalog number is 17.246. Section II, will not count against the application page limits. Applicants should follow the instructions included with the attachments.

The financial plan must describe all costs associated with implementing the project that are to be covered with the grant funds. All cost should be necessary and reasonable according to the Federal guidelines set forth in the “Uniform Administrative Requirements for Grants and Cooperative Agreements to State and Local Governments,” (also known as the :Common Rule”) codified at 29 CFR Part 97 (97.22), and “Grants and Agreements with Institutes of Higher Education, Hospitals, and Other Non-Profit Organizations' (also known as OMB Circular A-110). Codified at 29 CFR Part 95 (95.27).

The financial plan must contain the following parts:

a. Completed “SF 424—Application for Federal Assistance” (see Appendix A for required form)

b. Completed “Budget Information Form” by line item for all costs required to implemented the project design effectively. (See Appendix B for these required forms.)

c. Budget narrative/justification which provides sufficient information to support the reasonableness of the cost included in the budget in relation to the service strategy and planned outcomes. Budget categories are administration and program activities, and should be planned in accordance with recent changes in the Department of Labor financial reporting requirements (see attached Budget Information Form).

Section III. Project Narrative—Technical Proposal—Section III of the application, the project narrative (technical proposal) shall demonstrate the offeror's capabilities in accordance with the Statement of Work in Part III of this solicitation. It is advised that the technical proposal be formatted according to the evaluation criteria for this SGA (which are described in Part V). Each application shall also include a Time line outlining project activities. The grant application shall be limited to 20 double-spaced, single-side, 8.5-inch × 11-inch pages with 1-inch margins. Attachments shall not exceed 15 pages. Text type shall be 12 point or larger. Applications that do not meet these requirements will not be considered.

B. Hand-Delivered Applications

Applications should be mailed no later than five (5) days prior to the closing date for the receipt of applications. However if applications are hand-delivered, they must be received at the designated place by 4 p.m., Eastern Time on the closing date (Thursday, November 30, 2000) for receipt of applications. All overnight mail will be considered to be hand-delivered and must be received at the designated place by the specified time and closing date. Telegraphed and/or faxed proposals will not be honored. Applications that fail to adhere to the above instructions will not be honored.

C. Late Applications

Any application received at the office designated in the solicitation after the exact time specified for receipt will not be considered unless it:

(1) Was sent by U.S. Postal Service registered or certified mail not later than the fifth calender day before the closing date specified for receipt of applications (e.g., an offer submitted in response to a solicitation requiring receipt of application by the 10th of August must have been mailed by the 5th); or

(2) Was sent by U.S. Postal Service Express Mail Next Day Service—Post Office to Addressee, not later than 5:00 p.m. at the place of mailing two working days prior to the date specified for receipt of application. The term “working days” excludes weekends and U.S. Federal holidays. The only acceptable evidence to establish the date of mailing of a late application sent by U.S. Postal Service registered or certified mail is the U.S. postmark on the envelope or wrapper and on the original receipt from the U.S. Postal Service.

The only acceptable evidence to establish the date of mailing of a late application sent by “Express Mail Next-Day Service—Post Office to Addressee” is the date entered by the post office receiving clerk on the “Express Mail Next Day Service—Post Office to Addressee”and the postmarks on both the envelope and wrapper and the original receipt from the U.S. Postal Service.

D. Withdrawal of Applications

Applications may be withdrawn by written notice or telegram (including mailgram) received at any time before award. Applications may be withdrawn in person by the applicant or by an authorized representative thereof, if the representative's identity is made known and the representative signs a receipt for the proposal.

Part V. Rating Criteria and Selection Process

A. Review Process

A careful evaluation of applications will be made by a technical review panel who will evaluate the applications against the criteria below. The panel results are advisory in nature and not binding on the Grant Officer. The Government may elect to award the grant with or without discussions with the offeror. In situations without discussions, an award will be based on the offeror's signature on the (SF) 424, which constitutes a binding offer. Awards made will be those that are in the best interest of the Government. It is important that applicants demonstrate that they are positioned to implement the ITA approaches described in this solicitation and to share learning that can contribute to the development of successful workforce development systems elsewhere.

B. Evaluation Criteria

1. Applicant Qualifications (30 Points)

a. Applicant must be either (1) a local Workforce Investment Board (Local Board) applying with evidence of strong support from the State in which it is located, or (2) a consortium of two contiguous Local Boards applying with strong support from their State(s). Each Local Board applying for this SGA, either singularly or as a consortium, must include, as part of the evidence of support, a statement (i.e., signed letter from their State) that the State will make available wage records and other administrative data required for the evaluation of the experiment. Applicants must clearly demonstrate that they meet one of the following eligibility criteria:

i. If applicant is one Local Board, the Local Board must provide evidence of an expected minimum flow of 550 training recipients for one program year. Applicant must describe the estimated flow of training recipients it expects to offer training to in one program year. This number should be supported by historical information (e.g., the number of trainees who were offered training in past program years), or other evidence to support the estimated number of participant flow for training; OR

ii. If applicant is a consortium of two Local Boards, the consortium must expect a minimum combined flow of 550 participants for training. The Local Boards in a consortium must be contiguous, i.e., the Local Boards must be from the same adjoining region. This number should be supported by historical information (e.g., the number of trainees who were offered training in past program years), or other evidence to support the estimated number of participant flow for training. As stated earlier in this announcement, applicants applying as a consortium receive a single amount of $750,000, which will be distributed proportionately to the number of training recipients each Local Board expects to contribute to the total number of training recipients. For example, if a consortium consists of two Local Boards, and the first Local Board anticipates a flow of 250 training recipients, while the second Local Board anticipates a flow of 400, the consortium will have a combined total of 650 training recipients. Since the first Local Board is providing for 250 of the 650 total training recipients (38% of the total number of training recipient), it will therefore receive approximately $285,000 of the $750,000 grant (38% of the total grant award). Since the second Local Board is providing for 400 of the total 650 training recipients (62% of the total number of training recipients), it will therefore receive approximately $465,000 of the $750,000 grant (62% of the total grant award). The budget information form submitted in the application for the SGA should reflect this allocation of the grant award.

The estimated flow of training recipients determines the eligibility of a single Local Board or consortium of Local Boards to apply for this grant. One of the key objectives of the ITA Experiment is to detect the impacts of substantially different ITA approaches to determine which approach works best, and for whom. In order to obtain accurate and reliable estimates of outcomes for the different ITA approaches, the research contractor has determined that a minimum sample size requirement of at least 550 training recipients in one program year is necessary from each applicant. Therefore, DOL will not consider proposals that fail to show evidence of meeting this criteria.

b. Describe the Local Board(s), including (but not limited to) a brief history, the number of One-Stop Centers within the local area, the number of staff that counsel training recipients for all One-Stops, anticipated WIA funding levels, and size and demographics of local workforce investment area(s) served.

2. Approach (35 Points)

a. Provide a complete flowchart and description of the array of services currently used, as well as the services that are anticipated to be available, to locally support and serve training recipients.

b. Provide a complete flowchart and description of the procedures and services used to determine how and when a participant is determined eligible for training, including a description of how the services are different between participants receiving intensive services and participants receiving training services.

c. Discuss any potential roadblocks or considerations in implementing any of the ITA approaches or operational aspects of the ITA Experiment. Also, describe possible solutions to handling these issues.

d. Describe the Eligible Training Provider (ETP) list and Consumer Reporting System (CRS) in your state. On each of the systems, include information on the format, types of information posted, how it is accessed and used by counselors and participants, how they are maintained, and how long they have been in use by the applicant. Also, provide the estimated number of providers on the ETP list. Copies of parts of the ETP list and the CRS can be used as examples of format.

e. Present a detailed time line describing how the applicant could perform the tasks for implementing the ITA Experiment, given the milestones described in the Statement of Work.

f. Provide a brief description of the computer management information system used locally at the site, if any, and include the types of data that is collected and how it is maintained.

3. Interest and Commitment (25 Points)

a. Discuss the applicant's commitment to providing site staff availability for staff training and other related activities planned by DOL and the researchers to ensure proper implementation of the ITA approaches, random assignment, and data collection. Applicant must provide commitment of one full-time project manager for this project, for a minimum of 18 months, along with the project manager's resume. Applicant must also provide a staffing chart for the ITA Experiment, and provide names, positions, and functions of key staff committed to the experiment, e.g., the project manager, One-Stop counselors, staff for managing/inputting data for the STS, etc.

b. Describe the applicant's interest in and commitment to implementing random assignment for the ITA Experiment.

c. Describe the applicant's level of interest in participating as the Pilot Site to operate the ITA Experiment 8-12 weeks before the other grantees begin the experiment. As noted in the Statement of Work, it is anticipated that the Pilot Site will begin operations around April 15, 2001, and the other grantees will begin operations on July 1, 2001.

d. Explain the applicant's interest in treating the ITA Experiment as a priority in comparison with other workforce development system innovations.

4. Previous Experience (10 Points)

a. Describe the applicant's previous experience, if any, with designing and/or implementing ITAs, or any other voucher-type programs.

b. Discuss the applicant's history of peer-to-peer assistance with learning from program innovations, especially on a regional or national basis.

c. Provide an example of a creative approach the applicant organization(s) has designed to improve their local area's workforce development system.

Part VI. Monitoring, Reporting & Evaluation Requirements

A. Monitoring

DOL shall be responsible for ensuring effective implementation of each competitive grant project under the ITA Experiment in accordance with the Workforce Investment Act legislation, regulations, the provisions of this announcement, and the negotiated grant agreement. Applicants should assume that at least one on-site project reviews will be conducted by Department staff, or their designees. This review will focus on the project's performance in meeting the goals of the ITA Experiment, implementing with the requirements of each ITA approach for participants who are served, expenditure of grant funds on allowable activities, and collaboration with other organizations as required. Grants may be subject to additional reviews at the discretion of DOL.

B. Reporting

DOL will arrange for providing technical assistance to selected grantees in establishing appropriate reporting and data collection methods and processes based upon the STS created by DOL for the experiment. An effort will be made to accommodate and provide assistance to selected grantees to be able to complete all reporting electronically. In addition to the STS, selected grantees will be required to provide the following reports:

a. Monthly progress reports; and

b. Standard Form 269, Financial Status Report Form, on a quarterly basis.

Evaluation reports for the ITA Experiment will be prepared by an independent research evaluation firm, Mathematica Policy Research. The evaluation reports, including interim and final reports, are fully funded by DOL through a separate contract, and will not require any additional funding through this SGA.

C. Evaluation

DOL has contracted with an independent research evaluation firm, Mathematica Policy Research, to conduct an evaluation of the process, outcomes, impacts, and return on investment of the ITA Experiment. RFP #DCS-99-28 describes the evaluation criteria and is available for review at http://www.wdsc.org/sga/rfp/rfp99-28.htm. Grantees must agree to make their records available to research contractor personnel, as necessary. The research contractor will be required to maintain the confidentiality of all individual records they receive for the purpose of evaluating the ITA Experiment.

D. Conclusion

The WIA legislation provides States and locals with considerable flexibility in using ITAs to manage a participant's choice of training providers. State and local administrators are therefore faced with developing their own ITA approaches to best serve their participants. The ITA Experiment will test three ITA approaches that could be adopted by local Workforce Investment Areas. By rigorously testing these three approaches, the ITA Experiment can help to establish which approaches work best for participants, for counselors, for Workforce Investment Boards, and for the workforce development system as a whole. Administrators will be able to use this information to determine which of the ITA approaches is best suited for their State or local community.

Signed in Washington D.C., this 7th day of September 2000.
Laura A. Cesario,
Grant Officer, Division of Federal Assistance.

Appendices

Appendix A: (SF) 424—Application for Federal Assistance

Appendix B: Budget Information Form

Appendix C: Evidence of State Support

Appendix D: Application Cover Sheet

BILLING CODE 4510-30-P

[FR Doc. 00-23430 Filed 9-12-00; 8:45 am]

BILLING CODE 4510-30-MC